DEPARTMENT OF COMMERCE

National Oceanic and Atmospheric Administration

50 CFR Part 679

[Docket No. 991228352-0182-03; I.D. 121099C, 011100D]

RIN 0648-AM83

Fisheries of the Exclusive Economic Zone Off Alaska; Emergency Interim Rules To Implement the American Fisheries Act; Extension of Expiration Dates; Correction

AGENCY: National Marine Fisheries Service (NMFS), National Oceanic and Atmospheric Administration (NOAA), Commerce.

ACTION: Extension and revision of emergency interim rules; revision to 2000 final harvest specifications; correction.

SUMMARY: This document contains a correction to the emergency interim rules implementing the American Fisheries Act (AFA) for the 2000 fishing year that was published in the Federal Register on June 23, 2000.

DATES: This correction is effective July 26, 2000.

FOR FURTHER INFORMATION CONTACT: Kent Lind, 907-586-7228 or kent.lind@noaa.gov.

SUPPLEMENTARY INFORMATION: NMFS published an extension and revision of emergency interim rules in the Federal Register on June 23, 2000 (65 FR 39107). Emergency interim rules, published on January 5, 2000, and January 28, 2000, were extended through December 24, 2000, and January 16, 2001, respectively. These actions included collection-of-information requirements subject to the Paperwork Reduction Act (PRA); however, PRA statements were inadvertently omitted.

Correction

In the final rule Emergency Interim Rules to Implement the American Fisheries Act; Extension of Expiration Dates published in 65 FR 39107, June 23, 2000, FR Doc. 00-15857, on page 39110, add to the Classification section in column 2 following the paragraph beginning “Because prior notice and opportunity for public comment * * *” the following two paragraphs to read as follows:

Notwithstanding any other provision of the law, no person is required to respond to, nor shall any person be subject to a penalty for failure to comply with, a collection of information subject to the requirements of the PRA, unless that collection of information displays a currently valid OMB control number.

This rule extends collection-of-information requirements subject to the PRA. These requirements have been approved by OMB under control number 0648-0393. Public reporting burden for these collections of information is estimated to average 2 hours per permit application for a mothership, inshore processor, inshore cooperative, or catcher vessel permit; and 30 minutes for a replacement vessel permit application. These estimates include the time for reviewing instructions, searching existing data sources, gathering and maintaining the data needed, and completing and reviewing the collection of information. Send comments regarding these burden estimates, or any other aspect of these data collections, including suggestions for reducing the burden, to NMFS (see ADDRESSES) and to OMB at the Office of Information and Regulatory Affairs, Office of Management and Budget, Washington, DC, 20503 (Attention: NOAA Desk Officer).

Dated: July 19, 2000.
Andrew A. Rosenberg,
Deputy Assistant Administrator for Fisheries, National Marine Fisheries Service.

[FR Doc. 00-18772 Filed 7-25-00; 8:45 am]

BILLING CODE 3510-22-F